COMMISSION ON CIVIL RIGHTS

Agenda and Notice of Public Meeting of the Tennessee Advisory Committee

Notice is hereby given, pursuant to the provisions of the rules and regulations of the U.S. Commission on Civil Rights (Commission) and the Federal Advisory Committee Act (FACA) that a meeting of the Tennessee Advisory Committee (Committee) to the Commission will convene at 1:30 p.m. and adjourn at approximately 3:00 p.m. on Monday, April 21, 2014. The meeting will be held at the Main Nashville Public Library, 615 Church Street, Nashville, TN. The purpose of the meeting is for the Committee to discuss its voting rights report and plan future activities.

Members of the public are entitled to submit written comments. Comments must be received in the regional office by May 21, 2014. Comments may be mailed to Peter Minarik at the Southern Regional Office, U.S. Commission on Civil Rights, 61 Forsyth St. SW., Suite 16T126, Atlanta, GA 30303. They may also be faxed to the Committee at (404) 562-7005 or emailed to pminarik@usccr.gov. Persons who desire additional information may contact the Southern Regional Office at (404) 562-7000.

Hearing-impaired persons who will attend the meeting and require the services of a sign language interpreter should contact the Southern Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address.

The meeting will be conducted pursuant to the provisions of the rules and regulations of the Commission and FACA.

Dated in Chicago, IL, on April 1, 2014.
David Mussatt,
Acting Chief, Regional Programs Coordination Unit.

[FR Doc. 2014-07599 Filed 4-4-14; 8:45 am]

BILLING CODE 6335-01-P